DEPARTMENT OF HEALTH AND HUMAN SERVICES

[30-day notice]

Agency Information Collection Request; 30-Day Public Comment Request, Grants.gov

AGENCY: Office of the Secretary, HHS.

In compliance with the requirement of section 3506(c)(2)(A) of the Paperwork Reduction Act of 1995, Grants.gov (EGOV), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, to Ed.Calimag@hhs.gov, or call the Reports Clearance Office on (202) 690-6162. Send written comments and recommendations for the proposed information collections within 30 days of this notice directly to the Grants.gov OMB Desk Officer; faxed to OMB at 202-395-6974.

Proposed Project:

Project Performance Site Location, Project Abstract, Key Contacts OMB Control Number 4040-0010.

3 Year Extension and assignment as a Common Form.

Office: Grants.gov.

Abstract: The Project Performance Site Location, Project Abstract, and Key Contacts forms are an OMB-approved collection (4040-0010). This information collection is used by more than 26 Federal grant-making entities for research and related projects. This IC originally is to expire on September 30, 2016. We are requesting a three-year clearance of this collection and that it be designated as a Common Form.

Estimated Annualized Burden Table

Total Estimated Annualized Burden Hours
Form name | Number of respondents | Number of responses per respondent | Average burden per response (in hours) | Total burden hours
Project Abstract | 85 | 1 | 1 | 85
Project Performance Site Location(s) | 143,567 | 1 | 1 | 143,567
Key Contacts | 3,565 | 1 | 1 | 3,565
Total | 147,217 |  |  | 147,217

Terry S. Clark,
Asst Information Collection Clearance Officer.

[FR Doc. 2016-15982 Filed 7-18-16; 8:45 am]

BILLING CODE 4151-AE-P